DEPARTMENT OF ENERGY

Federal Energy Regulatory Commission

[Docket No. RP00-354-001]

Columbia Gas Transmission Corporation; Notice of Proposed Changes in FERC Gas Tariff

August 16, 2000.

Take notice that on August 9, 2000, Columbia Gas Transmission Corporation (Columbia) filed as part of its FERC Gas Tariff, Second Revised Volume No. 1 (Tariff), the revised tariff sheets listed on Appendix A, with a proposed effective date of August 1, 2000.

Columbia states that on June 23, 2000, it filed tariff sheets in Docket No. RP00-354 to update its tariff consistent with Commission policy and decisions on tariff filings made by other interstate pipelines concerning permissible discounting arrangements and negotiated-rate authority related changes. On July 27, 2000, the Commission accepted the filed tariff sheets to be effective August 1, 2000, subject to Columbia making compliance filing within 15 days. The instant filing is being made to comply with the July 27 Order, provided, by submitting the tariff revisions in this filing Columbia is not waiving its right to seek rehearing and/or clarification of the July 27 Order.

Columbia states that copies of its filing are available for inspection at its offices at 12801 Fair Lakes Parkway, Fairfax, Virginia; and 10 G Street, NE, Suite 580, Washington, DC; and have been mailed to all firm customers, interruptible customers and affected state commissions.

Any person desiring to protest this filing should file a protest with the Federal Energy Regulatory Commission, 888 First Street, NE., Washington, DC 20426, in accordance with Sections 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-21305 Filed 8-21-00; 8:45 am]

BILLING CODE 6717-01-M